COMMISSION ON CIVIL RIGHTS

Notice of Public Meeting of the Connecticut Advisory Committee to the U.S. Commission on Civil Rights; Revision to Date

AGENCY: Commission on Civil Rights.

ACTION: Notice: revision to meeting date.

SUMMARY: The Commission on Civil Rights published a notice in the Federal Register of Friday, June 16, 2023, concerning a meeting of the Connecticut Advisory Committee. The notice is in FR Doc. 2023-12881, in the first and second columns of page 39398. The document contains a meeting date that is now revised from Thursday, June 29, 2023, at 11:00 a.m. ET to Thursday, July 6, 2023, at 12:00 p.m. ET.

DATES: July 6, 2023, Thursday, at 12:00 p.m. (ET).

ADDRESSES: The meeting will be held via the same Zoom information. Meeting Link (Audio/Visual): https://tinyurl.com/3m735abx; password, if needed: USCCR-CT.

Join by Phone (Audio Only): 1-833-435-1820 USA Toll-Free; Meeting ID: 161 555 2518#.

FOR FURTHER INFORMATION CONTACT: Barbara Delaviez, at bdelaviez@usccr.gov or by phone at 202-539-8246.

Dated: June 29, 2023.
David Mussatt,
Supervisory Chief, Regional Programs Unit.

[FR Doc. 2023-14182 Filed 7-3-23; 8:45 am]

BILLING CODE P